DEPARTMENT OF TRANSPORTATION

National Highway Traffic Safety Administration

[Docket No. NHTSA 2002-13242; Notice 2]

Goodyear Tire & Rubber Company, Grant of Application for Decision That Noncompliance Is Inconsequential to Motor Vehicle Safety

Goodyear Tire & Rubber Company (Goodyear) has determined that approximately 2,400 of the 66,697 P275/55R20 Eagle LS and P245/70R16 Wrangler SRA tires manufactured and shipped during the period May 25, 2002 to June 16, 2002, do not meet the labeling requirements mandated by Federal Motor Vehicle Safety Standard (FMVSS) No. 109, “New pneumatic tires.”

Pursuant to 49 U.S.C. 30118(d) and 30120(h), Goodyear has petitioned for a determination that this noncompliance is inconsequential to motor vehicle safety and has filed an appropriate report pursuant to 49 CFR part 573, “Defect and Noncompliance Reports.” Notice of receipt of the application was published, with a 30-day comment period, on September 5, 2002, in the Federal Register (67 FR 56873). NHTSA received no comment on this application.

FMVSS No. 109 (S4.3(d)) requires that each tire shall have permanently molded the generic name of each cord material used in the plies (both sidewall and tread area) of the tire.

From May 25, 2002, to June 16, 2002, Goodyear produced and cured a maximum of 2,400 tires with an erroneous marking. These tires were marked with the cord material identified as polyester when it was actually nylon.

Goodyear states that the subject tires have been tested and the results indicate that all performance requirements of FMVSS No. 109 were met or exceeded. Goodyear considers this to be an isolated case. Goodyear has put into effect additional quality steps to ensure that only the correct fabric and its corresponding marking are used in the future. Goodyear stated that the noncompliance is one solely of labeling.

The Transportation Recall, Enhancement, Accountability, and Documentation (TREAD) Act (Pub. L. 106-414) required, among other things, that the agency initiate rulemaking to improve tire label information. In response, the agency published an Advance Notice of Proposed Rulemaking (ANPRM) in the Federal Register on December 1, 2000. (65 FR 75222). The agency received more than 20 comments on the tire labeling information required by 49 CFR §§ 571.109 and 119, part 567, part 574, and part 575. With regard to the tire construction labeling requirements of FMVSS 109, S4.3(d), most commenters indicated that the information was of little or no safety value to consumers. However, according to the comments, when tires are processed for retreading or repairing, it is important for the retreader or repair technician to understand the make-up of the tires and the types of plies. This enables them to select the proper repair materials or procedures for retreading or repairing the tires. A steel cord radial tire can experience a circumferential or “zipper” rupture in the upper sidewall when it is operated underinflated or overloaded. If information regarding the number of plies and cord material is incorrect or removed from the sidewall, technicians cannot determine if the tire has a steel cord sidewall ply. This information is critical when determining if the tire is a candidate for a zipper rupture. In this case, since the tires are not of steel cord construction, but are actually nylon (though marked polyester), this potential safety concern does not exist.

In addition, the agency conducted a series of focus groups, as required by the Tread Act, to examine consumer perceptions and understanding of tire labeling. Few of the focus group participants had knowledge of tire labeling beyond the tire brand name, tire size, and tire pressure.

Based on the information obtained from comments to the ANPRM and the consumer focus groups, we have concluded that it is likely that few consumers have been influenced by the tire construction information (e.g., cord material in the sidewall) provided on the tire sidewall when deciding to buy a motor vehicle or tire.

The agency believes that the true measure of inconsequentiality to motor vehicle safety in this case is the effect of the noncompliance on the operational safety of vehicles on which these tires are mounted. This labeling noncompliance has no effect on the performance of the subject tires.

In consideration of the foregoing, NHTSA has decided that the applicant has met its burden of persuasion that the noncompliance is inconsequential to motor vehicle safety. Accordingly, its application is granted and the applicant is exempted from providing the notification of the noncompliance as required by 49 U.S.C. 30118, and from remedying the noncompliance, as required by 49 U.S.C. 30120.

Authority: (49 U.S.C. 30118, 30120; delegations of authority at 49 CFR 1.50 and 501.8)

Issued on: January 28, 2003.
Stephen R. Kratzke,
Associate Administrator for Rulemaking.

[FR Doc. 03-2425 Filed 1-31-03; 8:45 am]

BILLING CODE 4910-59-P